DEPARTMENT OF HEALTH AND HUMAN SERVICES

National Institutes of Health

National Institute of Mental Health; Amended Notice of Meeting

Notice is hereby given of a change in the meeting of the National Institute of Mental Health Special Emphasis Panel, December 4, 2000, 8:30 am to December 4, 2000, 5:00 pm, Bethesda Holiday Inn, 8120 Wisconsin Avenue, Bethesda, MD, 20814 which was published in the Federal Register on October 25, 2000, 65 FR 63878.

The meeting time has been changed to 10:30 am to 6:00 pm on the same day at the same hotel. The meeting is closed to the public.

Dated: November 6, 2000.
LaVerne Y. Stringfield,
Director, Office of Federal Advisory Committee Policy.

[FR Doc. 00-29134 Filed 11-14-00; 8:45 am]

BILLING CODE 4140-01-M